DEPARTMENT OF HOUSING AND URBAN DEVELOPMENT

[Docket No. FR-5300-FA-22]

Announcement of Funding Awards for the Service Coordinators in Multifamily Housing Fiscal Year 2009

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Service Coordinators in Multifamily Housing program. This announcement contains the names of the awardees and the amounts of the awards made available by HUD.

FOR FURTHER INFORMATION CONTACT: Ms. Aretha Williams, Acting Director, Office of Housing Assistance and Grant Administration, 451 7th Street, SW., Washington, DC 20410; telephone (202) 708-3000 (this is not a toll-free number). Hearing- and speech-impaired persons may access this number via TTY by calling the Federal Relay Service toll-free at 1-800-877-8339. For general information on this and other HUD programs, visit the HUD Web site at http://www.hud.gov.

SUPPLEMENTARY INFORMATION: The Service Coordinators in Multifamily Housing program is authorized by Section 808 of the Cranston-Gonzalez National Affordable Housing Act (Pub. L. 101-625, approved November 28, 1990), as amended by sections 671, 674, 676, and 677 of the Housing and Community Development Act of 1992 (Pub. L. 102-550, approved October 28, 1992), and section 851 of the American Homeownership and Economic Opportunity Act of 2000 (Pub. L. 106-569, approved December 27, 2000). The competition was announced in the SuperNOFA published in the Federal Register on September 1, 2009. Applications were reviewed and selected for funding on the basis of selection criteria contained in that Notice.

The Catalog of Federal Domestic Assistance number for this program is 14.191.

The Service Coordinators in Multifamily Housing program allows multifamily housing owners to assist elderly individuals and nonelderly people with disabilities living in HUD-assisted housing and in the surrounding area to obtain needed supportive services from the community, to enable them to continue living as independently as possible in their homes.

A total of $32,733,268 was awarded to 162 owners, serving 173 projects with 19,195 units nationwide. In accordance with section 102(a)(4)(C) of the Department of Housing and Urban Development Reform Act of 1989 (103 Stat. 1987. 42 U.S.C. 3545), the Department is publishing the grantees and amounts of the awards in Appendix A of this document.

Dated: August 15, 2011.
Carol J. Galante,
Acting Assistant Secretary for Housing-Federal Housing Commissioner.

State: Alabama

Recipient: Volunteers of America Southeast, Inc.

Property Name: Oak Hill Apartments

Address: 407 Brantley St

City: Opp

# Assisted Units: 54

Amount: $97,097

State: Arizona

Recipient: FSL Christopher Properties, Inc.

Property Name: Kingman Heights

Address: 1020 Detroit Ave

City: Kingman

# Assisted Units: 33

Amount: $114,330

Recipient: Foundation for Senior Adult Living (FSAL) Inc.

Property Name: Sweetwater Gardens

Address: 2035 E. Sweetwater Ave.

City: Phoenix

# Assisted Units: 24

Amount: $101,330

Recipient: Fsal Rural Development Corporation

Property Name: Padua Hills

Address: 460 S. West Road

City: Wickenburg

# Assisted Units: 25

Amount: $94,296

State: California

Recipient: Good Shepherd Housing Dev.Corp.

Property Name: Good Shepherd Homes

Address: 510 Centinela Ave

City: Inglewood

# Assisted Units: 39

Amount: $254,513

Recipient: Little Tokyo Towers Inc

Property Name: Little Tokyo Towers

Address: 455 E 3rd St

City: Los Angeles

# Assisted Units: 180

Amount: $449,216

Recipient: Terry Manor Preservation, L.P.

Property Name: Jessie L Terry Manor

Address: 3100 S Vermont Ave

City: Los Angeles

# Assisted Units: 170

Amount: $369,672

Recipient: Plummer Village

Property Name: Plummer Village

Address: 15450 Plummer St

City: North Hills

# Assisted Units: 74

Amount: $223,277

Recipient: Pledgerville Senior Citizens Villa

Property Name: Pledgerville Senior Citizens Villa

Address: 11060 Norris Ave

City: Pacoima

# Assisted Units: 93

Amount: $250,665

State: Colorado

Recipient: San Juan Apartments, LLC

Property Name: San Juan Apartments

Address: 1650 Church St

City: Montrose

# Assisted Units: 76

Amount: $153,969

State: Connecticut

Recipient: Underwood Associates Limited Partnership

Property Name: Underwood Elderly

Address: 25 Laurel St

City: Hartford

# Assisted Units: 136

Amount: $292,986

Recipient: Lymes Elderly Housing, Inc.

Property Name: Lymewood Elderly

Address: 249 Boston Post Road

City: Old Lyme

# Assisted Units: 20

Amount: $84,442

Recipient: BC Exchange Place LLC

Property Name: Exchange Place Towers

Address: 44 Center St

City: Waterbury

# Assisted Units: 150

Amount: $213,258

Recipient: Nottingham Towers Investors, LLC

Property Name: Nottingham Towers

Address: 31 Nottingham Ter

City: Waterbury

# Assisted Units: 156

Amount: $229,960

State: Florida

Recipient: Benchmark St. Andrews Towers Associates., L.P.

Property Name: St. Andrews Towers

Address: 24 Harrison Ave

City: Panama City

# Assisted Units: 216

Amount: $354,513

Recipient: St Andrew's Residence of the Diocese of SE FL, Inc

Property Name: St. Andrew's Residence

Address: 208 Fern St

City: West Palm Beach

# Assisted Units: 182

Amount: $109,241

State: Georgia

Recipient: Trinity Towers Limited Partnership, L.P.

Property Name: Trinity Towers

Address: 2611 Springdale Rd

City: Atlanta

# Assisted Units: 232

Amount: $378,050

Recipient: Vineville Towers Associates, LTD

Property Name: Clisby Towers

Address: 2087 Vineville Ave

City: Macon

# Assisted Units: 52

Amount: $98,801

Recipient: Heatherwood Apartments

Property Name: Heatherwood Apartments

Address: 42 Chateau Dr

City: Rome

# Assisted Units: 68

Amount: $186,306

State: Iowa

Recipient: Sioux Falls Environmental Access Inc.

Property Name: Ridgewood Apartments

Address: 260 4th St

City: Akron

# Assisted Units: 36

Amount: $76,110

Recipient: Fort Dodge Leased Housing Associates I LP

Property Name: Wahkonsa Manor Apartments

Address: 927 Central Ave

City: Fort Dodge

# Assisted Units: 76

Amount: $135,454

Recipient: Sioux Falls Environmental Access Inc.

Property Name: Rosewood Heights Apartments

Address: 1202 S 3rd Ave

City: Rock Rapids

# Assisted Units: 56

Amount: $76,110

State: Idaho

Recipient: NWRECC Idaho Affordable Housing Preservation LP

Property Name: Franklin Grove Apartments

Address: 4929 Franklin Rd

City: Boise

# Assisted Units: 40

Amount: $147,839

State: Illinois

Recipient: c/s Lathrop Elderly Limited Partnership

Property Name: Lathrop Elderly

Address: 2717 N. Leavitt

City: Chicago

# Assisted Units: 91

Amount: $242,083

Recipient: Continental Plaza Plaza Preservation II, L.P.

Property Name: Continental Plaza Apartments

Address: 1330 W 76th St

City: Chicago

# Assisted Units: 292

Amount: $483,298

Recipient: OHA Associates

Property Name: Oxford House

Address: 2700 N. Monroe Street

City: Decatur

# Assisted Units: 156

Amount: $359,397

Recipient: The Woods Associates

Property Name: The Woods

Address: 3010 E Mound Rd

City: Decatur

# Assisted Units: 57

Amount: $128,893

Recipient: Ridgewood Tower Associates

Property Name: Ridgewood Towers

Address: 545 42nd Ave

City: East Moline

# Assisted Units: 140

Amount: $237,663

Recipient: Westwood Terrace Second Limited Partnership

Property Name: Westwood Terrace

Address: 2200 First St

City: Moline

# Assisted Units: 97

Amount: $236,376

State: Indiana

Recipient: Capri Ii Associates

Property Name: Capri Meadows Ii

Address: 58 Capri Court

City: Bluffton

# Assisted Units: 100

Amount: $220,904

Recipient: Fairington Apartments

Property Name: Fairington Apartments

Address: 2134 Lombardy Drive

City: Clarksville

# Assisted Units: 200

Amount: $229,708

Recipient: The Edsall House, L.P.

Property Name: Edsall House

Address: 310 W Berry St

City: Fort Wayne

# Assisted Units: 203

Amount: $229,983

Recipient: United Church Residences of Fort Wayne, Indiana

Property Name: Salem Manor

Address: 1221 East California Road

City: Fort Wayne

# Assisted Units: 83

Amount: $189,510

Recipient: Northwood Apartments of Franklin

Property Name: Northwood Apartments Franklin

Address: 2018 Cedar Lane

City: Franklin

# Assisted Units: 100

Amount: $238,981

Recipient: Jamestown Square of Washington

Property Name: Jamestown Square Washington

Address: 110 Jamestown Ct

City: Washington

# Assisted Units: 150

Amount: $223,710

State: Kansas

Recipient: Coffeyville Leased Housing Associates I

Property Name: Dale Apartments

Address: 206 W 8th

City: Coffeyville

# Assisted Units: 47

Amount: $183,987

Recipient: Hutchinson Senior Residences, L.P.

Property Name: Washington Heights

Address: 2700 Washington

City: Hutchinson

# Assisted Units: 76

Amount: $168,583

Recipient: Central Park Investors, LLC

Property Name: Sunrise Towers

Address: 15 N. 10th Street

City: Kansas City

# Assisted Units: 193

Amount: $204,745

State: Kentucky

Recipient: Briarwood Apartments of Lexington

Property Name: Briarwood Apts of Lexington

Address: 1349 Centre Parkway

City: Lexington

# Assisted Units: 203

Amount: $223,376

Recipient: Brighton Housing, Inc.

Property Name: Two Rivers Apts

Address: 411 Elm St

City: Newport

# Assisted Units: 70

Amount: $186,564

State: Louisiana

Recipient: Bond House Senior Apartments, LP

Property Name: Bond House

Address: 720 Briscoe Ave

City: Bastrop

# Assisted Units: 75

Amount: $172,340

Recipient: Tower Oaks Apartments LLC

Property Name: Tower Oaks Apartments

Address: 222 Louie St

City: Lake Charles

# Assisted Units: 152

Amount: $313,430

Recipient: Wellington Square Senior Apartments LLC

Property Name: Wellington Square Apartments

Address: 1812 Jewella Avenue

City: Shreveport

# Assisted Units: 170

Amount: $192,422

State: Massachusetts

Recipient: Wollaston Lutheran Church Apts, Inc.

Property Name: Fenno House

Address: 540 Hancock St

City: Quincy

# Assisted Units: 31

Amount: $239,465

Recipient: HRCA Housing for Elderly, Inc.

Property Name: HRCA Housing For Elderly/Jack Satter House

Address: 420 Revere Beach Blvd.

City: Revere

# Assisted Units: 266

Amount: $166,115

Recipient: Illyrian Gardens, Inc

Property Name: Illyrian Gardens

Address: 545 Salisbury St

City: Worcester

# Assisted Units: 72

Amount: $226,811

State: Maryland

Recipient: Bon Secours Housing II, Inc.

Property Name: Bon Secours Benet House

Address: 400 Millington Ave

City: Baltimore

# Assisted Units: 101

Amount: $208,800

Recipient: Monteverde

Property Name: Greenhill Housing Apts.

Address: 2503 Violet Ave

City: Baltimore

# Assisted Units: 301

Amount: $406,563

Recipient: Park North Oxford Associates

Property Name: Bolton North Apartments

Address: 1600 W Mount Royal Ave

City: Baltimore

# Assisted Units: 208

Amount: $454,449

Recipient: The Manhattan Park Apartments Limited Partnership

Property Name: Manhattan Park Apts

Address: 5715 Park Heights Ave

City: Baltimore

# Assisted Units: 64

Amount: $119,706

State: Maine

Recipient: Housing Initiatives of New England Corporaton

Property Name: Kennebec Plaza

Address: 20 Willow Street

City: Augusta

# Assisted Units: 67

Amount: $71,527

State: Michigan

Recipient: Bradley House LDHA

Property Name: Bradley House

Address: 100 15th St

City: Bay City

# Assisted Units: 179

Amount: $175,501

Recipient: Lawrence Park 2004 Limited Dividend Housing Assoc

Property Name: Lawrence Park

Address: 7000 Ten Mile Road

City: Centerline

# Assisted Units: 250

Amount: $217,389

Recipient: Bicentennial 1984 LDHA LP

Property Name: Bicentennial Towers Senior Housing

Address: 4 E Alexandrine St

City: Detroit

# Assisted Units: 299

Amount: $217,389

Recipient: Greenhouse 2006 LDHA LP

Property Name: Greenhouse Apartments

Address: 17300 Southfield Rd

City: Detroit

# Assisted Units: 208

Amount: $217,389

Recipient: Industrial-Stevens LDHA

Property Name: Industrial-Stevens Building

Address: 1410 Washington Blvd

City: Detroit

# Assisted Units: 163

Amount: $174,066

Recipient: Jefferson Maison East Limited Dividend Housing Association LLC

Property Name: 8330 On The River

Address: 8330 East Jefferson Ave

City: Detroit

# Assisted Units: 112

Amount: $209,616

Recipient: Lexington Village 2004 Limited Dividend Housing Assoc.

Property Name: Lexington Village

Address: 1310 Pallister

City: Detroit

# Assisted Units: 350

Amount: $217,389

Recipient: Parkview Place/MHT LDHA LP

Property Name: Parkview Place

Address: 1401 Chene

City: Detroit

# Assisted Units: 199

Amount: $434,954

Recipient: Alpine Alten Zimmer Apartments Company LP

Property Name: Alpine Alten Zimmer

Address: 120 Grandview Blvd

City: Gaylord

# Assisted Units: 46

Amount: $137,406

Recipient: Camelot Woods LDHA

Property Name: Camelot Woods I

Address: 2399 Charring Cross SE

City: Grand Rapids

# Assisted Units: 200

Amount: $171,716

Recipient: Plymouth Arms Associates

Property Name: Plymouth Arms Apts.

Address: 1836 Mason NE

City: Grand Rapids

# Assisted Units: 80

Amount: $239,128

Recipient: Tamarack-1984 LDHA

Property Name: Tamarack

Address: 4400 W Holt Rd

City: Holt

# Assisted Units: 100

Amount: $220,751

Recipient: Tamarisk Limited Dividend Housing Association

Property Name: Tamarisk Apts

Address: 4520 Bowen Blvd SE

City: Kentwood

# Assisted Units: 100

Amount: $216,021

Recipient: Porter Partners Limited Dividend Housing Assoc, LLC

Property Name: Porter Apartments

Address: 505 Townsend

City: Lansing

# Assisted Units: 98

Amount: $226,936

Recipient: Coventry Woods 2004 Limited Dividend Housing Assoc

Property Name: Coventry Woods

Address: 3550 Remembrance Rd

City: Walker

# Assisted Units: 100

Amount: $215,721

Recipient: Whispering Woods LDHA

Property Name: Whispering Woods Apts

Address: 1450 Whispering Woods Dr

City: Waterford

# Assisted Units: 192

Amount: $216,387

Recipient: Pinery Park LDHA

Property Name: Pinery Park Apts

Address: 2300 Newstead Ave SW

City: Wyoming

# Assisted Units: 125

Amount: $220,751

State: Minnesota

Recipient: Elderly Housing Corp. of Clay County

Property Name: Houge Estates

Address: 510 Center Ave E

City: Dilworth

# Assisted Units: 60

Amount: $238,290

Recipient: The Salvation Army, A MN Non-Profit Corp.

Property Name: Booth Manor/Salvation Army

Address: 1421 Yale Pl

City: Minneapolis

# Assisted Units: 100

Amount: $150,000

Recipient: Catholic Charities of St. Paul and Minneapolis

Property Name: Mary Hall SRO Occupancy Program

Address: 438 Main Street

City: Saint Paul

# Assisted Units: 75

Amount: $163,777

Recipient: The Salvation Army, A MN Non-Profit Corp.

Property Name: Salvation Army Booth Brown Foyer

Address: 1471 Como Avenue

City: Saint Paul

# Assisted Units: 6

Amount: $81,552

State: Missouri

Recipient: New Wellington Associates

Property Name: Wellington Arms I Apartments

Address: 11333 Sugar Pine Dr

City: Florissant

# Assisted Units: 224

Amount: $171,716

Recipient: Meadowglen Apartments, LP

Property Name: Meadowglen Apartments

Address: 12465 Scenic Lake Drive

City: St. Louis

# Assisted Units: 208

Amount: $122,606

State: Montana

Recipient: Havre Eagles Manor

Property Name: Havre Eagles Manor

Address: 20 W Third St

City: Havre

# Assisted Units: 40

Amount: $179,153

State: North Carolina

Recipient: Morehead Hills Senior Apartments Lp

Property Name: Morehead Hills Apartments

Address: 500 Cobb St

City: Durham

# Assisted Units: 75

Amount: $209,666

Recipient: Community Housing Concepts Sheraton Towers Llc

Property Name: Sheraton Towers

Address: 400 North Main Street

City: High Point

# Assisted Units: 97

Amount: $197,297

Recipient: Wilkes Towers, Ltd.

Property Name: Wilkes Towers

Address: 830 Main St Ofc 200

City: North Wilkesboro

# Assisted Units: 72

Amount: $160,486

State: Nebraska

Recipient: Douglas County Housing Authority

Property Name: Benn View I Apartments

Address: 15652 N. Fourth Street

City: Bennington

# Assisted Units: 44

Amount: $185,000

State: New Hampshire

Recipient: HINEC Bethlehem Senior Housing Associates LP

Property Name: Hillview Apartments

Address: 46 Agassiz St

City: Bethlehem

# Assisted Units: 20

Amount: $37,853

State: New Jersey

Recipient: Elizabeth Senior Housing Limited Partnership

Property Name: Alexian Manor

Address: 122 Seventh Street

City: Elizabeth

# Assisted Units: 75

Amount: $236,770

Recipient: The Riese Corporation

Property Name: Governor Paterson Towers I

Address: 225 20th Avenue

City: Paterson

# Assisted Units: 63

Amount: $153,951

Recipient: The Riese Corporation

Property Name: Governor Paterson Towers Ii

Address: 195 20th Street

City: Paterson

# Assisted Units: 31

Amount: $153,951

State: New Mexico

Recipient: YES Housing, Inc.

Property Name: Brentwood Gardens Apartments

Address: 6302 Harper Pl NE

City: Albuquerque

# Assisted Units: 122

Amount: $211,961

State: New York

Recipient: Erma Cava Housing Development Fund Co., Inc.

Property Name: Erma Cava Houses

Address: 923 Barretto St

City: Bronx

# Assisted Units: 35

Amount: $73,662

Recipient: New York City Housing Authority

Property Name: Saratoga Square

Address: 930 Halsey St

City: Brooklyn

# Assisted Units: 251

Amount: $487,506

Recipient: Meadow Park Apartments LLC

Property Name: Meadow Park

Address: 85 Fair St

City: Deposit

# Assisted Units: 81

Amount: $177,266

Recipient: Wedgwood Apartments LLC

Property Name: Wedgewood Apts.

Address: 7851 Route 298

City: Kirkville

# Assisted Units: 69

Amount: $127,109

Recipient: Urban Park II, L.P.

Property Name: Urban Park Towers Apartments

Address: 77 Main St

City: Lockport

# Assisted Units: 150

Amount: $334,070

Recipient: Niagara II, L.P.

Property Name: Niagara Towers

Address: 901 Cedar Ave

City: Niagara Falls

# Assisted Units: 200

Amount: $432,769

Recipient: Tonawanda II, L.P.

Property Name: Tonawanda Towers

Address: 5 Main St

City: Tonawanda

# Assisted Units: 100

Amount: $221,656

Recipient: NCR of Warsaw Housing Development Fund Co Inc

Property Name: Crestview Terrace Apartments

Address: 32 Salina St

City: Warsaw

# Assisted Units: 35

Amount: $119,668

State: Ohio

Recipient: United Church Residences of Delaware Ohio Inc

Property Name: United Church Residence of Bedford

Address: 315 Bonnieview Drive

City: Bedford

# Assisted Units: 60

Amount: $109,359

Recipient: National Church Residences of Chillicothe

Property Name: Hopeton Village

Address: 153 University Dr

City: Chillicothe

# Assisted Units: 108

Amount: $158,942

Recipient: Andrews Apartments, Ltd., an Ohio LLC

Property Name: St Andrews Tower

Address: 5225 Superior Ave

City: Cleveland

# Assisted Units: 176

Amount: $220,431

Recipient: Antioch Preservation, LP

Property Name: Antioch Towers

Address: 8920 Carnegie Ave

City: Cleveland

# Assisted Units: 171

Amount: $311,912

Recipient: Jaelot Senior Housing, LTD.

Property Name: Jaelot Apts

Address: 12730 Shaker Blvd

City: Cleveland

# Assisted Units: 160

Amount: $220,431

Recipient: Rockefeller Park Apartments Limited Partnership

Property Name: Rockefeller Park Towers

Address: 1588 Ansel Rd

City: Cleveland

# Assisted Units: 130

Amount: $194,641

Recipient: Warrensville Senior Housing, LTD

Property Name: Warrensville Manor

Address: 1476 Warrensville Ctr Rd

City: Cleveland Heights

# Assisted Units: 100

Amount: $220,431

Recipient: Nazareth Towers, LTD.

Property Name: Nazareth Towers

Address: 300 E Rich St

City: Columbus

# Assisted Units: 177

Amount: $207,533

Recipient: National Church Residences of Cuyahoga Falls, OH

Property Name: Portage Trail Village

Address: 45 Cathedral Lane

City: Cuyahoga Falls

# Assisted Units: 199

Amount: $188,682

Recipient: Cardinal One Portfolio LLC

Property Name: Asbury Apartments

Address: 215 Mcdaniel Street

City: Dayton

# Assisted Units: 119

Amount: $205,620

Recipient: New Stratford Ltd.

Property Name: Stratford Place

Address: 4727 Dugger Rd

City: Dayton

# Assisted Units: 100

Amount: $186,901

Recipient: United Church Residences of Delaware Ohio Inc

Property Name: St. Michael's Community

Address: 35 Lexington Boulevard

City: Delaware

# Assisted Units: 44

Amount: $107,958

Recipient: KB Portfolio, LLC

Property Name: Owl's Nest Apts

Address: 2020 Taylor Rd

City: East Cleveland

# Assisted Units: 229

Amount: $223,870

Recipient: KB Portfolio, LLC

Property Name: Findlay Senior Towers

Address: 806 Bright Rd

City: Findlay

# Assisted Units: 114

Amount: $197,841

Recipient: Logan Place, Limited

Property Name: Logan Place

Address: 800 Logan Rd

City: Mansfield

# Assisted Units: 45

Amount: $101,347

Recipient: Riverview Terrace, Inc

Property Name: Riverview Terrace

Address: 120 E Maumee Ave

City: Napoleon

# Assisted Units: 46

Amount: $105,570

Recipient: United Church Residences of Pickerington,Ohio Inc

Property Name: Pickfair Square

Address: 310 Jericho Rd

City: Pickerington

# Assisted Units: 33

Amount: $95,577

Recipient: Shaker Heights Housing Associates

Property Name: Campbell Court Apartments

Address: 16650 Van Aken Blvd

City: Shaker Heights

# Assisted Units: 81

Amount: $194,606

Recipient: Benchmark Springfield Towers Associates, LP

Property Name: Springfield Towers

Address: 363 E High St

City: Springfield

# Assisted Units: 120

Amount: $184,588

Recipient: Ashland Manor Apartments Limited Partnership

Property Name: Ashland Manor

Address: 2030 Ashland Ave

City: Toledo

# Assisted Units: 146

Amount: $310,030

Recipient: Terrace Ridge Assoc. Limited

Property Name: Terrace Ridge

Address: 1312 McKaig Avenue

City: Troy

# Assisted Units: 167

Amount: $197,841

State: Oklahoma

Recipient: The Foundation for Senior Citizens, Inc.

Property Name: Superbia Retirement Village

Address: 9720 Stacy Ct

City: Oklahoma City

# Assisted Units: 99

Amount: $184,509

Recipient: Tulsa Housing Authority

Property Name: James M Inhofe Plaza

Address: 6565 S Newport Ave

City: Tulsa

# Assisted Units: 149

Amount: $197,757

State: Oregon

Recipient: King Bell Associates

Property Name: King Bell Apartments

Address: 10005 SE Bell Ave

City: Milwaukie

# Assisted Units: 61

Amount: $116,805

State: Pennsylvania

Recipient: Coatesville Towers

Property Name: Coatesville Towers

Address: 339 E Lincoln Hwy

City: Coatesville

# Assisted Units: 90

Amount: $226,899

Recipient: Harriet Tubman Terrace, Inc.

Property Name: Harriet Tubman

Address: 550 Negley Run Blvd.

City: Pittsburgh

# Assisted Units: 56

Amount: $78,000

Recipient: K B Connelly, LLC

Property Name: Connelly Manor

Address: 55 W Connelly Blvd

City: Sharon

# Assisted Units: 125

Amount: $203,131

Recipient: K B Penn, LP

Property Name: Riverview Manor

Address: 15 W Connelly Blvd

City: Sharon

# Assisted Units: 123

Amount: $201,359

State: Rhode Island

Recipient: Rumford Apartments, LP

Property Name: Rumford Towers

Address: 95 Newman Ave

City: East Providence

# Assisted Units: 1100

Amount: $432,862

State: South Carolina

Recipient: Lee Co Senior Apts

Property Name: Lee County Senior Apartments, Inc.

Address: 318-A Chappell Rd

City: Bishopville

# Assisted Units: 32

Amount: $214,233

Recipient: The Carolina, a Limited Partnership

Property Name: Carolina Apts. (The)

Address: 3201 Meadowlark Dr

City: Columbia

# Assisted Units: 70

Amount: $229,860

Recipient: Lancaster Manor II, LLC

Property Name: Lancaster Apartments Associates

Address: 201 Chesterfield Ave

City: Lancaster

# Assisted Units: 66

Amount: $148,599

Recipient: Tri-Vision Housing Corporation

Property Name: Wisteria Way

Address: 204-8 Hospital St. Ext,

City: Manning

# Assisted Units: 30

Amount: $151,537

Recipient: The Ledges, a Limited Partnership

Property Name: Ledges Apartments (The)

Address: 550 Sikes Ave

City: North Augusta

# Assisted Units: 84

Amount: $225,328

Recipient: SCAH, Inc.

Property Name: Pinckney Place

Address: 1300 South Pinckney Street

City: Union

# Assisted Units: 46

Amount: $232,239

State: Tennessee

Recipient: Hickory Hollow II, LP

Property Name: Hickory Hollow Towers

Address: 100 Curtis Hollow Rd

City: Antioch

# Assisted Units: 154

Amount: $280,335

Recipient: Morningside II, L.P.

Property Name: Morningside Gardens

Address: 1800 Linden Ave

City: Knoxville

# Assisted Units: 267

Amount: $340,752

Recipient: Chippington II, L.P.

Property Name: Chippington Tower Apartments I

Address: 94 Berkley Dr

City: Madison

# Assisted Units: 418

Amount: $708,874

Recipient: Madison View Towers Associates, Limited

Property Name: Riverwood Tower Apartments

Address: 621 N Dupont Ave

City: Madison

# Assisted Units: 117

Amount: $245,792

Recipient: United Church Residences of Memphis, TN, Inc.

Property Name: Shelby Station

Address: 3290 Wood Hollow Dr

City: Memphis

# Assisted Units: 39

Amount: $94,912

Recipient: Volunteer Housing Development Corporation, Inc.

Property Name: College Park Apartments

Address: 2526 Mall Dr

City: Morristown

# Assisted Units: 44

Amount: $100,544

Recipient: Burton Plaza Associates, L.P.

Property Name: Burton Plaza

Address: 122 Burton Rd-Office

City: Rogersville

# Assisted Units: 44

Amount: $99,739

State: Texas

Recipient: Beaumont Leased Housing Associates II, LP

Property Name: Seville Apartments

Address: 4325 Crow Rd

City: Beaumont

# Assisted Units: 90

Amount: $207,815

Recipient: Woodland Christian Towers, Inc

Property Name: Woodland Christian Tower

Address: 600 E Tidwell Rd

City: Houston

# Assisted Units: 126

Amount: $183,942

Recipient: Silver Village Partners, L.P.

Property Name: Silver Village

Address: 5401 54th St

City: Lubbock

# Assisted Units: 100

Amount: $176,299

State: Virginia

Recipient: Grace Street Limited Partnership

Property Name: Dominion Place

Address: 1025 W Grace St

City: Richmond

# Assisted Units: 249

Amount: $194,416

Recipient: Elm Manor Homes, Inc.

Property Name: Elm Manor Homes

Address: 32 Elm Avenue SW

City: Roanoke

# Assisted Units: 23

Amount: $82,765

Recipient: Mountain Manor Homes

Property Name: Mountain Manor Homes

Address: 112 Elm Avenue

City: Roanoke

# Assisted Units: 15

Amount: $46,967

State: Vermont

Recipient: Linden Terrace Housing Limited Partnership

Property Name: Linden Terrace

Address: 191 Grove St

City: Rutland

# Assisted Units: 18

Amount: $70,235

State: Washington

Recipient: Archdiocesan Housing Authority

Property Name: Chancery Place

Address: 910 Marion St

City: Seattle

# Assisted Units: 84

Amount: $135,932

Recipient: Archdiocesan Housing Authority

Property Name: Tumwater Apartments

Address: 5701 6th Ave SW

City: Tumwater

# Assisted Units: 50

Amount: $131,703

Recipient: Housing Authority of Vancouver

Property Name: Columbia House

Address: 130 W. 24th Street

City: Vancouver

# Assisted Units: 151

Amount: $213,107

State: Wisconsin

Recipient: WHPC-Dominium, LLC

Property Name: Jackson County

Address: 130 S Water St

City: Black River Falls

# Assisted Units: 80

Amount: $217,653

Recipient: National Church Residences of Campbellsport, WI, In

Property Name: Mabess Manor

Address: 232 Mill St

City: Campbellsport

# Assisted Units: 24

Amount: $82,167

Recipient: Riverview Romeis, LLC

Property Name: Romeis Millstream Apartments 1

Address: 607 High St

City: Chippewa Falls

# Assisted Units: 108

Amount: $212,000

Recipient: Riverview Romeis, LLC

Property Name: Riverview Manor

Address: 217 S Water St E

City: Fort Atkinson

# Assisted Units: 76

Amount: $165,601

Recipient: Capitol Centre Housing Partners

Property Name: Capitol Centre

Address: 333 W Dayton St

City: Madison

# Assisted Units: 200

Amount: $221,559

Recipient: Dryden Terrace Hsg. Partners, LTD. Partnership

Property Name: Dryden Terrace

Address: 1902 Londonderry Dr

City: Madison

# Assisted Units: 100

Amount: $209,350

Recipient: Quaker Housing Inc

Property Name: Quaker Housing

Address: 2110 Fisher St.

City: Madison

# Assisted Units: 71

Amount: $145,806

Recipient: Anvil Housing Corporation, A Wisconsin Nonprofit

Property Name: St Mark Place

Address: 2025 N 14th St

City: Milwaukee

# Assisted Units: 50

Amount: $197,081

Recipient: Wisconsin Housing Preservation Corp.

Property Name: Rivercrest Villages

Address: 1007 E Wisconsin Street

City: Prairie Du Chien

# Assisted Units: 101

Amount: $207,650

Recipient: Racine Housing Partners

Property Name: McMynn Tower

Address: 110—7th Street

City: Racine

# Assisted Units: 122

Amount: $201,000

Recipient: Riverview Romeis, LLC

Property Name: Albert House

Address: 4000 Maryland Avenue

City: Racine

# Assisted Units: 94

Amount: $210,815

Recipient: Wisconsin Housing Preservation Corp.

Property Name: Rhine Haus Highland Estates I

Address: 1205 Tracy St

City: Rhinelander

# Assisted Units: 95

Amount: $207,818

Recipient: WHPC-Dominium, LLC

Property Name: Richland County Housing

Address: 975 W Seminary St

City: Richland Center

# Assisted Units: 78

Amount: $222,495

Recipient: Courtyard at Willow Woods Limited Partnership

Property Name: The Courtyard At Willow Woods

Address: 1500 Lincoln Ave

City: Tomah

# Assisted Units: 71

Amount: $98,828

Recipient: Westby Housing Associates, Inc.

Property Name: Westby Housing

Address: 211 Milwaukee St

City: Westby

# Assisted Units: 170

Amount: $172,434

State: West Virginia

Recipient: Alderson Manor Associates, Ltd.

Property Name: Alderson Manor

Address: PO Box 621

City: Alderson

# Assisted Units: 56

Amount: $102,264

Recipient: Manor House Associates

Property Name: Manor House

Address: 624 Johnstown Rd

City: Beckley

# Assisted Units: 102

Amount: $179,505

Recipient: Dunbar Towers

Property Name: Dunbar Towers

Address: 1000 Myers Ave

City: Dunbar

# Assisted Units: 102

Amount: $170,815

[FR Doc. 2011-21271 Filed 8-18-11; 8:45 am]

BILLING CODE 4210-67-P